DEPARTMENT OF COMMERCE

International Trade Administration

[A-570-912]

Certain New Pneumatic Off-the-Road Tires From the People's Republic of China: Final Results of Antidumping Duty Administrative Review; 2016-2017

AGENCY: Enforcement and Compliance, International Trade Administration, Department of Commerce.

SUMMARY: The Department of Commerce (Commerce) determines that Weihai Zhongwei Rubber Co., Ltd. (Zhongwei) sold subject merchandise in the United States at prices below normal value (NV) during the period of review (POR) September 1, 2016, through August 31, 2017.

DATES: Applicable March 5, 2019.

FOR FURTHER INFORMATION CONTACT: Keith Haynes, AD/CVD Operations, Office III, Enforcement and Compliance, International Trade Administration, Department of Commerce, 1401 Constitution Avenue NW, Washington, DC 20230; telephone: (202) 482-5139.

SUPPLEMENTARY INFORMATION:

Background

Commerce published the Preliminary Results of this administrative review on certain new pneumatic off-the-road tires (OTR Tires) from the People's Republic of China (China) on October 11, 2018.¹ We invited interested parties to comment on the Preliminary Results; however, no interested party submitted comments. For a discussion of events subsequent to the Preliminary Results, see Zhongwei's Analysis Memorandum.²

¹ See Certain New Pneumatic Off-the-Road Tires from the People's Republic of China: Preliminary Results of Antidumping Duty Administrative Review; 2016-2017, 83 FR 51439 (October 11, 2018) (Preliminary Results) and accompanying Preliminary Decision Memorandum (PDM).

² See memorandum, “Administrative Review of the Antidumping Duty Order on Certain New Pneumatic Off-the-Road Tires from the People's Republic of China; 2016-2017: Analysis of the Final Results Margin Calculation for Weihai Zhongwei Rubber Co., Ltd.,” dated concurrently with this notice (Zhongwei's Analysis Memorandum).

Commerce exercised its discretion to toll all deadlines affected by the partial federal government closure from December 22, 2018, through the resumption of operations on January 29, 2019.³ If the new deadline falls on a non-business day, in accordance with Commerce's practice, the deadline will become the next business day. The revised deadline for the final results decision is now March 20, 2019.

³ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise covered by this order includes new pneumatic tires designed for off-the-road and off-highway use, subject to certain exceptions. The subject merchandise is currently classifiable under Harmonized Tariff Schedule of the United States (HTSUS) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive. A full description of the scope of the order is contained in the Preliminary Decision Memorandum.⁴

⁴ See the PDM at 2-4.

Separate Rate

In our Preliminary Results, we found that information placed on the record by Zhongwei demonstrates that it is entitled to separate rate status, which we preliminarily granted. We received no information since the issuance of the Preliminary Results that provides a basis for reconsidering the determination with respect to the separate rate status of this entity. Therefore, for the final results, we continue to find that Zhongwei is eligible for a separate rate.

Changes Since the Preliminary Results

As noted above, we received no comments in response to the Preliminary Results. Accordingly, for the purposes of these final results, Commerce has made no substantive changes to the Preliminary Results. However, subsequent to the issuance of the Preliminary Results Commerce became aware of certain ministerial errors made with respect to the preliminary margin calculation for Zhongwei. We notified parties of these specific ministerial errors, and the adjustments we intended to make to the preliminary margin calculation to correct for these errors, in a memorandum to the file on October 18, 2018.⁵ The October 18, 2018, memorandum also established the briefing schedule for this administrative review and invited interested parties to comment on the Preliminary Results, including the intended changes identified therein, by November 12, 2018. As no interested party to this proceeding commented on the Preliminary Results, or the October 18, 2018 memorandum, we have incorporated the corrections to the self-identified ministerial errors detailed in that memorandum in calculating the final weighted-average margin for Zhongwei for these final results.⁶

⁵ See memorandum, “Administrative Review of Antidumping Investigation of Certain New Pneumatic Off-the-Road Tires from the People's Republic of China: Briefing Schedule for the Final Determination,” dated October 18, 2018.

⁶ See Zhongwei's Analysis Memorandum.

Final Results of the Review

Commerce determines that the following weighted-average dumping margin exists for the POR from September 1, 2016, through August 31, 2017:

Exporter | Weighted- average dumping margin (USD)
Weihai Zhongwei Rubber Co., Ltd | 1.45

Commerce's policy regarding conditional review of the China-wide entity applies to this administrative review.⁷ Under this policy, the China-wide entity will not be under review unless a party specifically requests, or Commerce self-initiates, a review of the China-wide entity. Because no party requested a review of the China-wide entity in this review, and we did not self-initiate a review, the entity is not under review and the entity's rate is not subject to change, (i.e., 105.31 percent).⁸

⁷ See Antidumping Proceedings: Announcement of Change in Department Practice for Respondent Selection in Antidumping Duty Proceedings and Conditional Review of the Nonmarket Economy Entity in NME Antidumping Duty Proceedings, 78 FR 65963 (November 4, 2013).

⁸ The China-wide rate was determined in Certain New Pneumatic Off-the-Road Tires from the People's Republic of China: Final Results of Antidumping Duty Administrative Review; 2012-2013, 80 FR 20197 (April 15, 2015).

Disclosure

We intend to disclose the calculations performed regarding these final results within five days of the date of publication of this notice to parties in this proceeding, in accordance with 19 CFR 351.224(b).

Assessment Rates

Commerce will determine, and U.S. Customs and Border Protection (CBP) shall assess, antidumping duties on all appropriate entries of subject merchandise in accordance with section 751(a)(2)(C) of the Tariff Act of 1930, as amended (the Act) and 19 CFR 351.212(b). Commerce intends to issue assessment instructions to CBP 15 days after the date of publication of the final results of this review in the Federal Register.

For any individually examined respondent whose (estimated) ad valorem weighted-average dumping margin is not zero or de minimis (i.e., less than 0.50 percent), Commerce will calculate importer-specific ad valorem assessment rates on the basis of the ratio of the total amount of dumping calculated for the importer's examined sales and the total entered value of those sales, in accordance with 19 CFR 351.212(b)(1).⁹ We will instruct CBP to assess antidumping duties on all appropriate entries covered by this review when the importer-specific ad valorem assessment rate calculated is not zero or de minimis. Where either the respondent's ad valorem weighted-average dumping margin is zero or de minimis, or an importer-specific ad valorem assessment rate is zero or de minimis, we will instruct CBP to liquidate the appropriate entries without regard to antidumping duties.¹⁰

⁹ In these final results, Commerce applied the assessment rate calculation method adopted in Antidumping Proceedings: Calculation of the Weighted-Average Dumping Margin and Assessment Rate in Certain Antidumping Proceedings; Final Modification, 77 FR 8101 (February 14, 2012).

¹⁰ See 19 CFR 351.212(b)(1).

Cash Deposit Requirements

The following cash deposit requirements will be effective for all shipments of the subject merchandise entered, or withdrawn from warehouse, for consumption on or after the publication date of the final results of this administrative review, as provided by section 751(a)(2)(C) of the Act: (1) For the exporter listed above, the cash deposit rate will be equal to the weighted-average dumping margin identified in the “Final Results” section of this notice, above; (2) for previously investigated or reviewed Chinese and non-Chinese exporters that are not under review in this segment of the proceeding but that received a separate rate in a previous segment, the cash deposit rate will continue to be the exporter-specific rate (or exporter-producer chain rate) published for the most recently completed segment of this proceeding in which the exporter was reviewed; (3) for all Chinese exporters of subject merchandise which have not been found to be entitled to a separate rate, the cash deposit rate will be the China-wide rate of 105.31 percent; and (4) for all non-China exporters of subject merchandise which have not received their own rate, the cash deposit rate will be the rate applicable to the China exporter(s) that supplied that non-China exporter. These cash deposit requirements, when imposed, shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in the Secretary's presumption that reimbursement of the antidumping and/or countervailing duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing these final results of administrative review in accordance with sections 751(a)(1) and 777(i) of the Act.

Dated: February 27, 2019.
Gary Taverman,
Deputy Assistant Secretary for Antidumping and Countervailing Duty Operations, performing the non-exclusive functions and duties of the Assistant Secretary for Enforcement and Compliance.

[FR Doc. 2019-03923 Filed 3-4-19; 8:45 am]

BILLING CODE 3510-DS-P